DEPARTMENT OF COMMERCE

National Oceanic and Atmospheric Administration

RIN 0648-XC703

Endangered Species; File Nos. 17557 and 17273

AGENCY: National Marine Fisheries Service (NMFS), National Oceanic and Atmospheric Administration (NOAA), Commerce.

ACTION: Issuance of permits.

SUMMARY: Notice is hereby given that the National Ocean Service Marine Forensic Lab (NOS Lab) [Responsible Party: M. Katherine Moore], 219 Fort Johnson Road, Charleston, SC 29412 (File No. 17557), and the NOAA Fisheries Northeast Region, Protected Resources Division [Responsible Party: Mary Colligan], 1 Blackburn Drive, Gloucester, MA 01930 (File No. 17273), have been issued permits to take marine mammal and endangered species parts for purposes of scientific research.

ADDRESSES: The permits and related documents are available for review upon written request or by appointment in the following offices:

Permits and Conservation Division, Office of Protected Resources, NMFS, 1315 East-West Highway, Room 13705, Silver Spring, MD 20910; phone (301)427-8401; fax (301)713-0376;

File No. 17273: Northeast Region, NMFS, 55 Great Republic Drive, Gloucester, MA 01930; phone (978)281-9328; fax (978)281-9394; and

File No. 17557: Southeast Region, NMFS, 263 13th Avenue South, Saint Petersburg, FL 33701; phone (727)824-5312; fax (727)824-5309.

FOR FURTHER INFORMATION CONTACT: Jennifer Skidmore, (301)427-8401.

SUPPLEMENTARY INFORMATION: On May 31, 2013, notice was published in the Federal Register (78 FR 32622) that requests for a scientific research permits to take marine mammal and endangered species parts had been submitted by the above-named organizations. The requested permits have been issued under the authority of the Endangered Species Act of 1973, as amended (ESA; 16 U.S.C. 1531 et seq.) and the regulations governing the taking, importing, and exporting of endangered and threatened species (50 CFR parts 222-226).

The NOS Lab (File No. 17557) has been issued a permit to receive, import, export, transfer, archive, and conduct analyses on an unlimited number of marine mammal and endangered species parts. Species include all cetaceans, pinnipeds (except for walrus), sea turtles (in the water), smalltooth (Pristis pectinata) and largetooth (P. perotteti) sawfish, shortnose (Acipenser brevirostrum), green (A. medirostris), Atlantic (A. oxyrinchus oxyrinchus) and Gulf (A. oxyrinchus desotoi) sturgeon, black (Haliotis cracherodii) and white (H. sorenseni) abalone, chinook (Oncorhynchus tshawytscha), chum (O. keta), coho (O. kisutch) and sockeye (O. nerka) salmon, steelhead trout (O. mykiss), and totoaba (Totoaba macdonaldi). Samples would be archived at the NOS Lab and used to support law enforcement actions, research studies (primarily genetics), and outreach education. No live takes from the wild would be authorized. The permit is valid for five years from the date of issuance.

The NOAA Fisheries Northeast Region (File No. 17273) has been issued a permit to collect, receive and transport 100 dead shortnose and 100 dead Atlantic sturgeon, or parts thereof, annually. Researchers also request authorization for the receipt and transport of up to 350 captive bred, dead shortnose sturgeon and up to 75 dead, captive bred Atlantic sturgeon annually from any U.S. facility authorized to hold captive sturgeon. The applicant requests authorization for the receipt, importation, exportation, transfer, archive and analysis of Atlantic and shortnose sturgeon parts and carcasses. Sturgeon samples would be obtained from individuals authorized to collect them in the course of scientific research, salvage activities, or taken during other authorized activities. Sturgeon parts and samples would be used to support law enforcement actions, research studies (primarily genetics), and outreach education. The permit is valid for five years from the date of issuance.

Issuance of these permits, as required by the ESA, was based on a finding that such permits (1) were applied for in good faith, (2) will not operate to the disadvantage of such endangered or threatened species, and (3) are consistent with the purposes and policies set forth in section 2 of the ESA.

Dated: August 14, 2013.
P. Michael Payne,
Chief, Permits and Conservation Division, Office of Protected Resources, National Marine Fisheries Service.

[FR Doc. 2013-20120 Filed 8-16-13; 8:45 am]

BILLING CODE 3510-22-P